OFFICE OF THE UNITED STATES TRADE REPRESENTATIVE

[Docket No. WTO/DS350]

WTO Dispute Settlement Proceeding Regarding Measures Related to Zeroing and Certain Investigations, Administrative Reviews and Sunset Reviews Involving Products From the European Communities

AGENCY: Office of the United States Trade Representative.

ACTION: Notice; request for comments.

SUMMARY: The Office of the United States Trade Representative (“USTR”) is providing notice that the European Communities (“EC”) has requested the establishment of a panel under the Marrakesh Agreement Establishing the World Trade Organization (“WTO Agreement”). The EC alleges that various measures relating to zeroing and antidumping duty orders on certain products from the EC, and certain related matters, are inconsistent with Articles 1, 2.1, 2.4, 2.4.2, 5.8, 9.1, 9.3, 9.5, 11, and 18.4 of the Agreement on Implementation of Article VI of the General Agreement on Tariffs and Trade 1994 (“AD Agreement”), Article VI of the General Agreement on Tariffs and Trade 1994 (“GATT 1994”), and Article XVI:4 of the WTO Agreement. That request may be found at http://www.wto.org contained in a document designated as WT/DS350/6. USTR invites written comments from the public concerning the issues raised in this dispute. In connection with the issues raised in the panel request, the public should be aware that on March 6, 2006, the Department of Commerce announced that it will no longer use “zeroing” when making average-to-average comparisons in an antidumping investigation. See 71 FR 11189.

DATES: Although USTR will accept any comments received during the course of the dispute settlement proceedings, comments should be submitted on or before October 26, 2007 to be assured of timely consideration by USTR.

ADDRESSES: Comments should be submitted (i) Electronically, to FR0702@ustr.eop.gov, Attn: “EC Zeroing II (DS350)” in the subject line, or (ii) by fax, to Sandy McKinzy at (202) 395-3640. For documents sent by fax, USTR requests that the submitter provide a confirmation copy to the electronic mail address listed above.

FOR FURTHER INFORMATION CONTACT: Ronald Baumgarten, Assistant General Counsel, Office of the United States Trade Representative, 600 17th Street, NW., Washington, DC 20508, (202) 395-9622.

SUPPLEMENTARY INFORMATION: Section 127(b) of the Uruguay Round Agreements Act (“URAA”) (19 U.S.C. 3537(b)(1)) requires that notice and opportunity for comment be provided after the United States submits or receives a request for the establishment of a WTO dispute settlement panel. Consistent with this obligation, USTR is providing notice that a dispute settlement panel has been requested pursuant to the WTO Understanding on Rules and Procedures Governing the Settlement of Disputes (“DSU”). The panel will hold its meetings in Geneva, Switzerland.

Major Issues Raised by the EC

With respect to the measures at issue, the EC's request for establishment of a panel refers to the following:

1. The continued application of, or the application of the specific anti-dumping duties resulting from certain anti-dumping orders specified in the EC request (see list, below) as calculated or maintained in place pursuant to the most recent administrative review or, as the case may be, original proceeding or changed circumstances or sunset review proceeding at a level in excess of the anti-dumping margin which would result from the correct application of the Anti-Dumping Agreement (whether duties or cash deposit rates or other form of measure).

2. Certain specified administrative reviews, or, as the case may be, original proceedings or changed circumstances or sunset review proceedings with the anti-dumping orders specified in the EC request (see list, below).

3. Determinations in relation to all companies and any assessment instructions, whether automatic or otherwise, issued at any time pursuant to the specified antidumping-orders.

The orders, administrative reviews, investigations, and sunset reviews specified by the EC are as follows:

Steel Concrete Reinforcing Bars from Latvia, DOC Case No. A-449-804, ITC Case No. 731-TA-878: 69 FR 74498 (December 14, 2004); 71 FR 74900 (13 December 2006); 71 FR 7016 (February 10, 2006); 72 FR 16767 (April 5, 2007) (Original Order: 66 FR 46777, 7 September 2001).

Ball Bearings from Italy, DOC Case No. A-475-801, ITC Case No. 731-TA-393: 71 FR 40064 (July 14, 2006); 70 FR 54711 (September 16, 2005); 69 FR 55574 (September 15, 2004); 68 FR 35623 (June 16, 2003); 71 FR 51850 (August 31, 2006); 71 FR 54469 (September 15, 2006). (Original Order: 15 May 1989; Continuation Order: 71 FR 54469, 15 September 2006)).

Ball Bearings from Germany, DOC Case No. A-428-801, ITC Case No. 731-TA-392: 71 FR 40064 (July 14, 2006); 70 FR 54711 (September 16, 2005); 69 FR 55574 (September 15, 2004); 69 FR 63507 (November 2, 2004); 68 FR 35623 (June 16, 2003); 70 FR 58383 (October 6, 2005); 71 FR 51850 (August 31, 2006); 71 FR 54469 (September 15, 2006).

Ball Bearings from France, DOC Case No. A-427-801, ITC Case No. 731-TA-391: 71 FR 40064 (July 14, 2006); 70 FR 54711 (September 16, 2005); 69 FR 55574 (September 15, 2004); 69 FR 62023 (October 22, 2004); 68 FR 35623 (June 16, 2003); 68 FR 43712 (July 24, 2003); 70 FR 58383 (October 6, 2005); 71 FR 51850 (August 31, 2006); 71 FR 54469 (September 15, 2006).

Stainless Steel Bar from France, DOC Case No. A-427-820: 70 FR 46482 (August 10, 2005); 71 FR 30873 (May 31, 2006). (Original Order: 67 FR 10385, 7 March 2002).

Stainless Steel Sheet and Strip in Coils from Germany, DOC Case No. A-428-825, ITC Case No. 731-TA-798: 71 FR 74897, December 13, 2006); 70 FR 73729 (December 13, 2005); 69 FR 75930 (December 20, 2004); 69 FR 6262 (February 10, 2004); 69 FR 67896 (November 22, 2004); 70 FR 41236 (July 18, 2005); 70 FR 44886 (August 4, 2005). (Original Order: 64 FR 40557, 27 July 1999; Continuation Order: 70 FR 44886, 4 August 2005).

Stainless Steel Plate in Coils from Belgium, DOC Case No. A-423-808, ITC Case. No. 731-TA-788: 70 FR 72789 (December 7, 2005); 69 FR 74495 (December 14, 2004); 70 FR 2999 (January 19, 2005); 69 FR 61798 (October 21, 2004); 70 FR 38710 (July 5, 2005); 70 FR 41202 (July 18, 2005). (Original Order: 64 FR 25288, 11 May 1999; Continuation Order: 70 FR 41202, 18 July 2005).

Ball Bearings and parts thereof from the United Kingdom, DOC Case No. A-412-801, ITC Case No. 731-TA-399: 70 FR 54711 (September 16, 2005); 69 FR 55574 (September 15, 2004); 69 FR 62023 (October 22, 2004); 70 FR 58383 (October 6, 2005); 71 FR 51850 (August 31, 2006); 71 FR 54469 (September 15, 2006).

Stainless Steel Bar from Germany, DOC Case No. A-428-830: 71 FR 42802 (July 28, 2006); 71 FR 52063 (September 1, 2006); 69 FR 113 (June 14, 2004).

Certain Hot-rolled Carbon Steel Flat Products from Netherlands, DOC Case No. A-421-807, ITC Case No. 731-TA-903: 70 FR 71523 (December 11, 2006) (Preliminary results); 70 FR 18366 (April 11, 2005); 69 FR 115 (June 16, 2004); 69 FR 43801 (July 22, 2004); 72 FR 7604 (February 16, 2007) (Preliminary Results). (Original Order: 66 FR 55637, 2 November 2001).

Stainless Steel Bar from Italy, DOC Case No. A-475-829, 69 FR 113 (June 14, 2004). (Original Order: 67 FR 10384, 7 March 2002).

Stainless Steel Sheet and Strip in Coils from Italy, DOC Case No. A-475-824, ITC Case No. 731-TA-799: 70 FR 7472 (February 14, 2005); 70 FR 13009 (March 17, 2005); 68 FR 69382 (December 12, 2003); 69 FR 67896, November 22, 2004; 70 FR 41236 (July 18, 2005); 70 FR 44886 (August 4, 2005). (Original Order: 64 FR 40567, 27 July 1999; Continuation Order: 70 FR 44886, 4 August 2005).

Certain Pasta from Italy, DOC Case No. A-475-818, ITC Case No. 731-TA-734: 72 FR 7011 (February 14, 2007); 70 FR 71464 (November 29, 2005); 70 FR 6832 (February 9, 2005); 69 FR 6255 (February 10, 2004); 69 FR 81 (April 27, 2004); 72 FR 5266 (February 5, 2007). (Original Order 61 FR 143, 24 July 1996; Continuation Order 66 FR 55160, 1 November 2001).

Brass Sheet and Strip from Germany, DOC Case No. A-428-602, ITC Case No. 731-TA-317: 71 FR 4348 (January 26, 2006); 71 FR 14719 (March 23, 2006); 71 FR 16552 (April 3, 2006). (Original Order: 6 March 1987).

Purified carboxymethylcellulose from Sweden, DOC Case No. A-401-808, ITC Case No. 731-TA-1087: 70 FR 28278 (May 17, 2005); 70 FR 39334 (July 7, 2005); 70 FR 39734 (July 11, 2005).

Purified carboxymethylcellulose from the Netherlands, DOC Case No. A-421-811, ITC Case No. 731-TA-1086;

Purified carboxymethylcellulose from Finland, DOC Case No. A-405-803, ITC Case No. 731-TA-1084: 70 FR 28275 (May 17, 2005); 70 FR 39334 (July 7, 2005); 70 FR 39734 (July 11, 2005).

Chlorinated isocyanurates from Spain, DOC Case No. A-469-814, ITC Case No. 731-TA-1083: 70 FR 24506 (May 10, 2005); 70 FR 36205 (June 22, 2005); 70 FR 36562 (June 24, 2005).

Public Comment: Requirements for Submissions

Interested persons are invited to submit written comments concerning the issues raised in this dispute. Persons may submit their comments either (i) Electronically, to FR0702@ustr.eop.gov, Attn: “EC Zeroing II (DS350)” in the subject line, or (ii) by fax to Sandy McKinzy at (202) 395-3640. For documents sent by fax, USTR requests that the submitter provide a confirmation copy to the electronic mail address listed above.

USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

A person requesting that information contained in a comment submitted by that person be treated as confidential business information must certify that such information is business confidential and would not customarily be released to the public by the submitter. Confidential business information must be clearly designated as such and the submission must be marked “BUSINESS CONFIDENTIAL” at the top and bottom of the cover page and each succeeding page.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened or in the event of an appeal from such a panel, the U.S. submissions, the submissions, or non-confidential summaries of submissions, received from other participants in the dispute; the report of the panel, and, if applicable, the report of the Appellate Body. An appointment to review the public file (Docket No. WT/DS-350, EC Zeroing II) may be made by calling the USTR Reading Room at (202) 395-6186. The USTR Reading Room is open to the public from 9:30 a.m. to noon and 1 p.m. to 4 p.m., Monday through Friday.

Daniel E. Brinza,
Assistant United States Trade Representative, for Monitoring and Enforcement.

[FR Doc. E7-17563 Filed 9-5-07; 8:45 am]

BILLING CODE 3190-W7-P